DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Boone & Scenic Valley Railroad

[Docket Number FRA-2001-9607]

The Iowa Railroad Historical Society has petitioned on behalf of Boone & Scenic Valley Railroad for a permanent waiver of compliance from the requirements of the Railroad Safety Glazing Standards—Locomotives, Passenger Cars and Cabooses, Title 49 Code of Federal Regulations § 223.11 which requires locomotives, other than yard locomotives, built or rebuilt prior to July 1, 1980, to be equipped with glazing which meets the requirements of appendix “A” of this part by June 30, 1984.

The Boone & Scenic Valley Railroad is a nonprofit railroad operating four locomotives, all of which are historic in nature. The locomotives will be used to switch approximately four freight cars a month to service two industries. The locomotives presently operate an excursion train over 11.95 miles of right-of-way northwest of Boone, Iowa and 1.66 miles of right-of way through Boone to the Boone Industrial Park. The Boone & Scenic Valley Railroad is connected to the Union Pacific Railroad by a transfer that is guarded by a Union Pacific derail. Interested parties are invited to participate in these proceedings by submitting written views, data, or comments. FRA does not anticipate scheduling a public hearing in connection with these proceedings since the facts do not appear to warrant a hearing. If any interested party desires an opportunity for oral comment, they should notify FRA in writing, before the end of the comment period and specify the basis for their request.

All communications concerning these proceedings should identify the appropriate docket number (e.g., Docket Number FRA-2001-9607) and must be submitted to the Docket Clerk, DOT Central Docket Management Facility, Room PL-401, Washington, D.C., 20590-0001. Communications received within 45 days of the date of this notice will be considered by FRA before final action is taken. Comments received after that date will be considered as far as practicable. All written communications concerning these proceedings are available for examination during regular business hours (9:00 a.m.-5:00 p.m.) at the above facility. All documents in the public docket are also available for inspection and copying on the Internet at the docket facility's Web site at http://dms.dot.gov.

Issued in Washington, D.C. on June 29, 2001.
Grady C. Cothen, Jr.,
Deputy Associate Administrator for Safety Standards and Program Development.

[FR Doc. 01-16832 Filed 7-3-01; 8:45 am]

BILLING CODE 4910-06-P